LEGAL SERVICES CORPORATION

Assessing the Goals in the Strategic Plan 2017-2020; Request for Comments

AGENCY: Legal Services Corporation.

ACTION: Request for comments.

SUMMARY: The Legal Services Corporation (“LSC”) Board of Directors (“Board”) is in the process of updating LSC's strategic plan for the years 2021-2024. The LSC Board is soliciting comments on the current LSC Strategic Plan 2017-2020 and whether the current goals and initiatives remain suitable and timely and if new goals or initiatives should be implemented.

DATES: All comments and recommendations must be received on or before the close of business on August 28, 2020.

ADDRESSES: You may submit comments by email to LSCStrategicPlan@lsc.gov; cc: Helen Guyton, Assistant General Counsel, guytonh@lsc.gov.

Instructions: All comments should be addressed to Rebecca Fertig Cohen, Chief of Staff, Legal Services Corporation. Include “Assessing Strategic Plan Goals 2017-2020” as the heading or subject line for all comments submitted.

FOR FURTHER INFORMATION CONTACT: Rebecca Fertig Cohen, cohenr@lsc.gov, (202) 295-1576.

SUPPLEMENTARY INFORMATION: Created and funded by Congress, LSC's fundamental mission is to pursue equal access to our justice system and serve as the single largest funder of civil legal aid programs in the country. With this mission in mind, the LSC Board adopted a plan in 2012 setting forth the strategic goals that would guide LSC for five years, ending in 2016 (“Initial Strategic Plan”). The LSC Board updated the Initial Strategic Plan for an additional four-year period covering 2017-2020 (“LSC Strategic Plan 2017-2020”). The LSC Board is now in the process of updating and revising the strategic plan for an additional four-year period from 2021-2024. As part of this process, the LSC Board is seeking input from the public and interested stakeholders on whether the goals articulated in the current LSC Strategic Plan 2017-2020, which is available at https://www.lsc.gov/about-lsc/who-we-are/strategic-plan, are still suitable and timely and whether new goals, if any, should be considered. A summary of the goals follows.

The first and primary goal listed in the LSC Strategic Plan 2017-2020 is to maximize the availability, quality, and effectiveness of the civil legal services that LSC's grantees provide to eligible low-income individuals. LSC identifies three avenues through which it can best accomplish this goal: (1) Continue the identification, validation, and sharing of best practices to ensure grantees are most effectively meeting the civil legal needs of low-income Americans; (2) continue the development and implementation of meaningful performance standards and metrics to ensure assessment of grantees in as fair, objective, and effective a way as possible while supporting the best possible performance of all grantees; and (3) provide legal practice and operational support to grantees to further improve the quality of civil legal services to low-income Americans and assess and prioritize actions to ensure grantees have the training and technical assistance required to support grantees effectively.

The second goal listed in the LSC Strategic Plan 2017-2020 is to expand the role of LSC as a convener and leading voice for civil legal services for eligible persons living in poverty in the United States.

The third and final goal listed in the LSC Strategic Plan 2017-2020 is to continue to achieve the highest standards of fiscal responsibility both for itself and its grantees. As a steward of congressional funds collected from the American taxpayer, LSC has a duty to prudently use the resources allocated to it. LSC's goal is to comply with the parameters expressed by Congress and conform to the highest professional standards of fiscal transparency and accountability, both within the Corporation and in its fiscal oversight of those who receive funds from LSC.

Dated: July 23, 2020.
Stefanie Davis,
Senior Assistant General Counsel.

[FR Doc. 2020-16360 Filed 7-28-20; 8:45 am]

BILLING CODE 7050-01-P